DEPARTMENT OF LABOR

Employment and Training Administration

Determinations Regarding Eligibility To Apply for Worker Adjustment Assistance and NAFTA Transitional Adjustment Assistance

In accordance with Section 223 of the Trade Act of 1974, as amended, the Department of Labor herein presents summaries of determinations regarding eligibility to apply for trade adjustment assistance for workers (TA-W) issued during the period of August, 2000.

In order for an affirmative determination to be made and a certification of eligibility to apply for worker adjustment assistance to be issued, each of the group eligibility requirements of Section 222 of the Act must be met.

(1) That a significant number or proportion of the workers in the workers' firm, or an appropriate subdivision thereof, have become totally or partially separated,

(2) That sales or production, or both, of the firm or subdivision have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-37,764; Precision Headed Products, Formerly Mascotech Forming Technologies, Ypsilanti, MI

TA-W-37,593; Pennzoil-Quaker State Co., Rouseville, PA, A; Oil City, PA, B; Reno, PA, C; Roosevelt, UT, D; Deerfield, OH and E; Rock Hill, SC

In the following cases, the investigation revealed that the criteria for eligibility have not been met for the reasons specified.

TA-W-37,886; Racing Champions ERTL, Inc., Dyersville, PA

TA-W-37,678; Packard Bell/NEC, Inc., (PBNEC), NEC Computer Systems Div. (NEC/CSO), Server Product Group, Boxborough, MA

TA-W-37,860; Weatherford Global Compression, Midland, TX

TA-W-37,892; CRH Catering Co., Inc., Connellsville, PA

The workers firm does not produce an article as required for certification under Section 222 of the Trade Act of 1974.

TA-W-37,508; Meritor Automotive, Oshkosh, WI

TA-W-37,658; Cooper Tools, Statesboro, GA

TA-W-37,584; Quebecor World, Inc., St. Paul, MN

TA-W-37,539; Quebecor World, Inc., Nashville, TN and Aurora, IL

TA-W-37,774; Caporale Engraving, Inc., Hackensack, NJ

TA-W-37,883; Corrpro Companies, Inc., Midland, TX

TA-W-37,819; Modern Engineering Co., Inc., Gallman, MS

TA-W-37,861; Modern Engineering Co. A Div. of Victor Equipment Co., Gallman, MS

TA-W-37,638; Wildon Industries, Mt. Bethel, PA

TA-W-37,709; The Boeing Co., St. Louis, MO

Increased imports did not contribute importantly to worker separations at the firm.

Affirmative Determinations for Worker Adjustment Assistance

The following certifications have been issued; the date following the company name and location of each determination references the impact date for all workers of such determination.

TA-W-37,804; Kellwood Co., Spencer, WV: May 22, 1999.

TA-W-37,827; The Kym Co., Jackson, GA: June 6, 1999.

TA-W-37,895; DeFarr, Inc., New York, NY: July 7, 1999.

TA-W-37,758; Federal Mogul Corp., Milan, MI: May 23, 1999.

TA-W-37,866; Assembly Service, Inc., El Paso, TX: June 26, 1999.

TA-W-37,595; Humpherys, Inc., Chicago, IL: April 3, 1999.

TA-W-37,684; Colby Footwear, Inc., Gonic, NH: May 4, 1999.

TA-W-37,586; Enefco International Limited, Footwear Subdivision, Auburn, ME: April 7, 1999.

TA-W-37,794; The American Fabrics Co., Tylertown, MS: May 6, 2000

TA-W-37,813; Seton Co., Leather Div, Saxton, PA: June 5, 1999

TA-W-37,907; Indiana Knitwear Corp., Greenfield, IN: July 10, 1999.

TA-W-37,738; Goodyear Tire and Rubber Co., Green, OH: May 24, 1999.

TA-W-37,840; LaCrosse Footwear, Inc., Clintonville, WI: June 20, 1999.

TA-W-37,854; P.H. Glatfelter, Ecusta Div., Pisgah Forest, NC: June 20, 1999.

TA-W-37,846; Collins Pine Co., Collins Products, LLC, Klamath Falls, OR: June 23, 2000.

TA-W-37,654; Garan, Inc., Corinth, MS: April 19, 1999.

TA-W-37,869; Johnson Controls, Inc., Control Products Div., Goshen, IN: June 29, 1999.

TA-W-37,713; Vinson Timber Products, Inc., Trout Creek, MT: May 12, 1999.

TA-W-37,841; Braunstein, Inc., New York, NY: June 16, 1999.

TA-W-37,786; Andover Apparel Group, Inc., Formerly Andover Togs, Inc., Pisgah, AL: June 2, 1999.

TA-W-37,659; Climax Molybdenum Co., Henderson Operation, Empire, CO: April 28, 1999.

TA-W-37,759; Interstate Dyeing and Finishing, Passaic, NJ: May 19, 1999.

TA-W-37,652; Monofrax, Inc., Falconer, NY: April 13, 1999.

TA-W-37,719; Southland Manufacturing Co., Inc., including workers of Skilstaff, Inc., Ashland, AL: May 15, 1999.

TA-W-37,775; Ceng, Inc., Formerly Dexter Sportswear, Dexter, GA: June 12, 1999.

TA-W-37,850; Motorola, Inc., Energy Systems Group, Harvard, IL: June 10, 1999.

TA-W-37,452; E2A Technology, Inc., Conyers, GA: February 28, 1999.

TA-W-37,830; Grand Haven Brass Foundry, Grand Haven, MI: June 13, 1999.

TA-W-37,785; J.F. Sportswear, Inc., Scranton, PA: May 31, 1999.

TA-W-37,694; Meritor Automotive, Fairfield, IA: April 28, 1999.

TA-W-37,423 & A; Warren Corp., Stafford Springs, CT and Warren Leasing, New York, NY: February 28, 1999.

Also, pursuant to Title V of the North American Free Trade Agreement Implementation Act (P.L. 103-182) concerning transitional adjustment assistance hereinafter called (NAFTA-TAA) and in accordance with Section 250(a), Subchapter D, Chapter 2, Title II, of the Trade Act as amended, the Department of Labor presents summaries of determinations regarding eligibility to apply for NAFTA-TAA issued during the month of August, 2000.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases in imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-03957; J.F. Sportswear, Scranton, PA

NAFTA-TAA-03988; P. H. Glatfelter, Ecusta Div., Pisgah Forest, NC

NAFTA-TAA-03860 & A, B, C, D, E; Pennzoil-Quaker State Co., Rouseville, PA, Oil City, PA, Reno, PA, Roosevelt, UT, Deerfield, OH and Rock Hill, SC

NAFTA-TAA-03919; Jenny K. Fashions, Meriden, CT

NAFTA-TAA-03947; KPT, Inc., Bloomfield, IN

NAFTA-TAA-03992; Precision Headed Products, Formerly Mascotech Forming Technologies, Ypsilanti, MI

NAFTA-TAA-03821 & A, B; Quebcor World, Inc., Nashville, TN, Aurora, IL and St. Paul, MN

NAFTA-TAA-03892; Schreiber Foods, Inc., Monroe, WI

NAFTA-TAA-03931; Hoff Forest Products, Meridian, ID

NAFTA-TAA-03794; Meritor Automotive, Oshkosh, WI

NAFTA-TAA-03933; Sommers, Inc., Sommers Ribbon Co., Stroudsburg, PA

The investigation revealed that the criteria for eligibility have not been met for the reasons specified.

NAFTA-TAA-4014; CRH Catering Co., Inc., Connellsville, PA

NAFTA-TAA-04045 & A; ACS Shared Services, Inc., Berea, KY and Richmond, KY

NAFTA-TAA-0436; Eliance Corp., Web Center, Minot, ND

The investigation revealed that workers of the subject firm did not produce an article within the meaning of Section 250(a) of the Trade Act, as amended.

Affirmative Determinations NAFTA-TAA

NAFTA-TAA-04049; Aircraft and Electronics Specialties, Inc., d/b/a AES Interconnects, Inc., a/k/a HRIS Staff Management, Inc. San Benito, TX: July 28, 1999.

NAFTA-TAA-03910; Competitive Engineering, Inc., Tucson, AR: May 6, 1999.

NAFTA-TAA-03974; Hitachi Koki Imaging Solutions, Inc., (formerly Known as Data Products), Simi Valley, CA: June 2, 1999.

NAFTA-TAA-03986; Triquest Precision Plastics, Vancouver, WA: August 19, 2000.

NAFTA-TAA-03999; Johnson Controls, Inc., Control Products Div., Goshen, IN: June 29, 1999.

NAFTA-TAA-03994; Wildfire Pacific, Inc., Kent, WA: June 30, 1999.

NAFTA-TAA-04026; Austin Products, Inc., Holbrook, NY: July 10, 1999.

NAFTA-TAA-03953; Ceng, Inc., Formerly Dexter Sportswear, Dexter, GA: May 30, 1999.

NAFTA-TAA-03936; Goodyear Tire and Rubber Co., Green, OH: May 24, 1999.

NAFTA-TAA-03989; Indiana Knitwear Corp., Greenfield, IN: June 26, 1999.

NAFTA-TAA-03973; Grand Haven Brass Foundry, Grand Haven, MI: June 15, 1999.

NAFTA-TAA-04011; Meritor Automotive, Fairfield, IA: May 5, 1999.

NAFTA-TAA-03920 & A; Louisiana Pacific Corp., Ketchikan Pulp Co., Ketchikan Sawmill, Ketchikan, AK and Timber Div., Prince of Wales Island, AK: May 12, 1999.

NAFTA-TAA-03985; Frink America, Inc., Clayton, NY: June 12, 1999.

NAFTA-TAA-04018; Federal Mogul Wiper Products, Michigan City, IN: July 6, 1999.

NAFTA-TAA-04015; Optimum Air Corp., Malta, NY: June 25, 1999.

I hereby certify that the aforementioned determinations were issued during the month of August, 2000. Copies of these determinations are available for inspection in Room C-5311, U.S. Department of Labor, 200 Constitution Avenue, NW., Washington, DC 20210 during normal business hours or will be mailed to persons who write to the above address.

Dated: August 16, 2000.
Grant D. Beale,
Program Manager, Division of Trade Adjustment Assistance.

[FR Doc. 00-21727 Filed 8-24-00; 8:45 am]

BILLING CODE 4510-30-M